ENVIRONMENTAL PROTECTION AGENCY

[ER-FRL-6670-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 1, 2005 (70 FR 16815).

Draft EISs

EIS No. 20050328, ERP No. D-FHW-G40186-LA, U.S. 90 Corridor, Proposed Interstate Highway 49 (I49) South Improvement from Raceland to the Davis Pond Diversion Canal, Section of Independent Utility 1 (SIU 1), Lafourche and St. Charles Parishes, LA.

Summary: EPA does not object to the proposed project.

Rating LO.

EIS No. 20050359, ERP No. D-NPS-L61229-AK, Denali National Park and Preserve, Draft South Denali Implementation Plan, Matanuska-Susitna Borough, AK.

Summary: EPA does not object to the proposed action.

Rating LO.

EIS No. 20050385, ERP No. D-COE-D35061-VA, Craney Island Eastward Expansion, Construction of a 580-acre Eastward Expansion of the Existing Dredged Material Management Area, Port of Hampton Roads, Norfolk Harbor and Channels, VA.

Summary: EPA expressed environmental concerns over potential impacts to aquatic resources and environmental justice communities. EPA also requested additional information concerning air toxic, particulates, and wetland impacts.

Rating EC2.

EIS No. 20050453, ERP No. D-AFS-L65497-ID, South Fork Salmon River Sub-basin Noxious and Invasive Weed Management Program, Implementation, Krassel and McCall Ranger Districts, Payette National Forest and Cascade Ranger District, Valley and Idaho Counties, ID

Summary: EPA expressed environmental concerns about potential adverse impacts to water quality and fishery resources. Unintended impacts to non-target species, especially salmonids, and persistence in the soils should be addressed in the Final EIS. EPA encourages expanding the use of Integrated Pest Management.

Rating EC1.

Final EISs

EIS No. 20050478, ERP No. F1-FHW-H40397-MO, Interstate 70 Corridor Improvements, Section of Independent Utility #4, from Missouri Route BB Interchange to Eastern Columbia, Funding, Boone County, MO.

Summary: No formal comment letter was sent to the preparing agency.

EIS No. 20050329, ERP No. F-NPS-L65458-ID, Craters of the Moon National Monument and Preserve, Update and Consolidate Management Plans, into One Comprehensive Plan, Snake River Plain, Butte, Blaine, Lincoln, and Minidoka Counties, ID.

Summary: No formal comment letter was sent to the preparing agency.

EIS No. 20050409, ERP No. F-AFS-L64057-OR, Joseph Creek Rangeland Analysis Project, Proposal to Allocate Forage for Commercial Livestock Grazing on Eleven Allotment, Wallowa-Whitman National Forests, Wallowa Valley Ranger District, Wallowa County, OR.

Summary: EPA does not object to the proposed project.

EIS No. 20050456, ERP No. F-FHW-F40416-00, U.S. 24 Transportation Improvements Project, I-469 in New Haven, Indiana to Ohio Route 15 in Defiance, Funding, NPDES Permit and U.S. Army COE Section 404 Permit Issuance, Westenmost and Allen Counties, IN and Paulding and Defiance Counties, OH.

Summary: The Final EIS addressed EPA's concerns with wetland mitigation, noise mitigation, and storm water management. However, EPA continues to have concerns about post project monitoring and suggests details be included in the ROD.

EIS No. 20050475, ERP No. F-AFS-G65092-NM, Invasive Plant Control Project, Protection of the Abundance and Biological Diversity of Desired Native Plant, Carson National Forest and Santa Fe National Forest, Rio Arriba, Colfax, Los Alamos, Mora, San Miguel and Santa Fe Counties, NM.

Summary: No formal comment letter was sent to the preparing agency.

EIS No. 20050502, ERP No. F-AFS-J65424-MT, Fishtrap Project, Proposed Timber Harvest, Prescribed Burning, Road Construction and Other Restoration Activities, Lolo National Forest, Plains/Thompson Falls Ranger District, Sanders County, MT.

Summary: The Final EIS addressed EPA's concerns about sedimentation, road density, hydro logic processes, and impacts to wildlife habitat although there still may be some short-term water quality effects.

EIS No. 20050465, ERP No. FS-FHW-J40145-UT, Legacy Parkway Project, Construction from 1-215 at 2100 North in Salt Lake City to 1-15 and US-89 near Farmington, Updated Information, Funding and U.S. Army COE Section 404 Permit, Salt Lake and Davis Counties, UT.

Summary: EPA has no objections to the preferred alternative, and indicated the practicability determination for the Denver and Rio Grande alternatives was appropriate. EPA recommended that the details of 150 acres of land proposed for addition to the Legacy Nature Preserve be described in the Record of Decision.

EIS No. 20050476, ERP No. FS-AFS-L65344-AK, Emerald Bay Timber Sale, Implementation, Additional Information on the Potential Effects of the Project Alternatives, Ketchikan-Misty Fiords Ranger District, Tongass National Forest, AK.

Summary: The Final EIS addressed EPA's concerns about the range of alternatives and Tribal consultation.

Dated: December 27, 2005.
Elaine Suriano,
Environmental Scientist, Office of Federal Activities.

[FR Doc. E5-8126 Filed 12-29-05; 8:45 am]

BILLING CODE 6560-50-P